DEPARTMENT OF COMMERCE

National Oceanic and Atmospheric Administration

Agency Information Collection Activities; Submission to the Office of Management and Budget (OMB) for Review and Approval; Comment Request; Economic Surveys of Specific U.S. Commercial Fisheries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 13, 2020, (85 FR 20473) during a 60-day comment period. This notice allows for an additional 30 days for public comments.

Agency: National Oceanic and Atmospheric Administration (NOAA), Commerce.

Title: Economic Surveys of Specific U.S. Commercial Fisheries.

OMB Control Number: 0648-0773.

Form Number(s): None.

Type of Request: Regular submission (revision of a currently approved collection).

Number of Respondents: 1,375.

Average Hours per Response:

West Coast Open Access Groundfish, Non-tribal Salmon, Crab, and Shrimp Economic Data Collection: 3 hours.

West Coast Limited Entry Groundfish Fixed Gear Economic Data Collection: 3 hours.

American Samoa Longline Survey: 1 hour.

Hawaii Longline Survey: 1 hour.

Hawaii Small Boat Economic Survey: 0.75 hours or 45 minutes.

American Samoa Small Boat Survey: 0.75 hours or 45 minutes.

Trip Level Economic Surveys of American Samoa (ESAS), Guam, and The Commonwealth of The Northern Mariana Islands (CNMI) Small Boat- Based Fisheries (an add-on to a creel survey): 0.167 hours or 10 minutes.

Cost Earnings Survey of Mariana Archipelago Small Boat Fleet: 0.75 hours or 45 minutes.

USVI Fisheries Economic Survey (Socio-Economic Profile of Small-Scale Commercial Fisheries (SSCF) in the U.S. Caribbean): 0.25 hours or 15 minutes.

Puerto Rico Fisheries Economic Survey (Socio-Economic Profile of Small-Scale Commercial Fisheries (SSCF) in the U.S. Caribbean): 1 hour.

Gulf of Mexico Inshore Shrimp Fishery Economic Survey: 0.78 hours or 47 minutes.

Economic Expenditure Survey of Golden Crab Fishermen in the U.S. South Atlantic Region: 0.5 hours or 30 minutes.

West Coast Coastal Pelagic Fishery Economic Survey: 3 hours.

West Coast Swordfish Fishery Cost and Earnings Survey: 0.51 hours or 31 minutes.

West Coast North Pacific Albacore Fishery Economic Survey: 1 hour.

Total Annual Burden Hours: 1,476.

Needs and Uses: This revision will add 14 economic surveys to this collection and revise the title of the collection from West Coast Limited Entry Groundfish Fixed Gear Economic Data Collection to Economic Surveys of Specific U.S. Commercial Fisheries. A variety of laws (including the Magnuson-Stevens Fishery Conservation and Management Act), Executive Orders, and NOAA Fisheries strategies and policies include requirements for economic data and the analyses they support. The proposed information collection will provide economic data needed to support more than cursory efforts to comply with those requirements. It will do that by improving the ability of NOAA Fisheries and the Regional Fishery Management Councils to monitor, explain and predict changes in the economic performance and impacts of federally managed commercial fisheries. Therefore, it will allow better-informed fishery conservation and management decisions for federally managed fisheries.

Affected Public: Individuals or households and Business or other for-profit organizations.

Frequency: Every 3 to 8 years.

Respondent's Obligation: Voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0773.

Sheleen Dumas,
Department PRA Clearance Officer, Office of the Chief Information Officer, Commerce Department.

[FR Doc. 2020-25345 Filed 11-16-20; 8:45 am]

BILLING CODE 3510-22-P